DEPARTMENT OF COMMERCE

International Trade Administration

[C-570-946]

Prestressed Concrete Steel Wire Strand from the People's Republic of China: Correction to Notice of Initiation of Countervailing Duty Investigation

AGENCY: Import Administration, International Trade Administration, Department of Commerce.

EFFECTIVE DATE: June 23, 2009

FOR FURTHER INFORMATION CONTACT: Robert Copyak, AD/CVD Operations, Office 3, Import Administration, International Trade Administration, U.S. Department of Commerce, 14th Street and Constitution Avenue, NW, Room 4014, Washington, DC 20230; telephone: (202) 482-2209.

SUPPLEMENTARY INFORMATION: On June 23, 2009, the Department published its notice of initiation of the countervailing duty investigation of prestressed concrete steel wire strand from the People's Republic of China (“PRC”). See Prestressed Concrete Steel Wire Strand From the People's Republic of China: Initiation of Countervailing Duty Investigation, 74 FR 29670 (June 23, 2009). In that notice, the effective date was listed as June 16, 2009. The effective date should have read June 23, 2009, which was the date of publication of the notice of initiation.

Dated: July 21, 2009.
Ronald K. Lorentzen,
Acting Assistant Secretary for Import Administration.

[FR Doc. E9-18594 Filed 8-3-09; 8:45 am]

BILLING CODE 3510-DS-S